DEPARTMENT OF ENERGY

Federal Energy Regulatory Commission

[Docket Nos. CP15-550-000; CP15-551-001]

Venture Global Calcasieu Pass, LLC; TransCameron Pipeline, LLC; Notice of Schedule for Environmental Review of the Calcasieu Pass Project

On September 4, 2015, Venture Global Calcasieu Pass, LLC filed an application in Docket No. CP15-550-000 requesting authorization under Section 3 of the Natural Gas Act to site, construct, and operate new liquefaction facilities. On the same day, TransCameron Pipeline, LLC filed an application in Docket No. CP15-551-000 requesting a Certificate of Public Convenience and Necessity pursuant to Section 7(c) of the Natural Gas Act to construct, operate, and maintain certain natural gas pipeline facilities. The combined proposed projects are known as the Calcasieu Pass Project (Project) and would liquefy and export 10.0 million tonnes per annum of liquefied natural gas (LNG).

On September 18, 2015, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Project. This instant notice identifies the FERC staff's planned schedule for completion of the final EIS for the Project, which is based on an issuance of the draft EIS in March 2018.

Schedule for Environmental Review

Issuance of Notice of Availability of the final EIS: July 3, 2018.

90-day Federal Authorization Decision Deadline: October 1, 2018.

If a schedule change becomes necessary for the final EIS, an additional notice will be provided so that the relevant agencies are kept informed of the Project's progress.

Project Description

Venture Global Calcasieu Pass, LLC's proposed facilities include nine single mixed refrigerant liquefaction blocks, two LNG storage tanks, a 720 megawatt electric generating plant, a marine terminal consisting of a turning basin and LNG carrier berths, LNG piping, transfer lines, and loading facilities. TransCameron Pipeline, LLC's proposed facilities include approximately 23.4 miles of 42-inch-diameter pipeline, one meter station, three mainline valves, one pig launcher, and one pig receiver. All facilities would be in Cameron Parish, Louisiana.

Background

On October 10, 2014, the Commission staff granted Venture Global Calcasieu Pass, LLC's and TransCameron Pipeline, LLC's joint request to use the FERC's Pre-filing environmental review process and assigned the Calcasieu Pass Project Docket No. PF15-2-000. On January 20, 2015, the Commission issued a Notice of Intent to Prepare an Environmental Impact Statement for the Proposed Calcasieu Pass Project, Request for Comments on Environmental Issues, and Notice of Public Scoping Meeting (NOI). On August 2, 2016, the Commission issued a Supplemental NOI that discussed TransCameron Pipeline, LLC's June 28, 2016 amendment, which included removal of the West Lateral pipeline as well as minor workspace adjustments along the East Lateral pipeline.

The original and Supplemental NOIs were sent to federal, state, and local government agencies; elected officials; affected landowners; environmental and public interest groups; Native American tribes and regional organizations; commentors and other interested parties; and local libraries and newspapers. Major issues raised during scoping include project design, alternatives, water resources, wildlife, vegetation, land use, recreation, transportation, traffic, socioeconomics, and cultural resources.

The U.S. Army Corps of Engineers, U.S. Coast Guard, U.S. Department of Transportation, U.S. Environmental Protection Agency, and U.S. Department of Energy are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP15-550 or CP15-551), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 29, 2017.
Kimberly D. Bose,
Secretary.

[FR Doc. 2017-26139 Filed 12-4-17; 8:45 am]

BILLING CODE 6717-01-P